COMMISSION ON CIVIL RIGHTS

Agenda and Notice of Public Meeting of the Vermont Advisory Committee

Notice is hereby given, pursuant to the provisions of the rules and regulations of the U.S. Commission on Civil Rights, that a meeting of the Vermont Advisory Committee to the Commission will convene at 1 p.m. and adjourn at 4:30 p.m. on Wednesday, June 12, 2002, at the Hamilton Room, One Flight Up Restaurant, Burlington International Airport, 1200 Airport Drive, South Burlington, Vermont 05430. The Advisory Committee will hold a planning meeting to begin its project activities on harassment of minorities in Vermont public schools and communities. The Committee will draft questions to educators, community organizations, civil rights leaders, and plan its fall 2002 town hall style meetings.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, May 21, 2002.
Ivy L. Davis,
Chief, Regional Programs Coordination Unit.

[FR Doc. 02-13243 Filed 5-24-02; 8:45 am]

BILLING CODE 6335-01-P